DEPARTMENT OF DEFENSE

Department of the Navy

Meeting of the Secretary of the Navy Advisory Panel

AGENCY: Department of the Navy, DoD.

ACTION: Notice of Closed Meeting.

SUMMARY: The SECNAV Advisory Panel will meet from 8:30 a.m. to 5 p.m. on May 23, 2012, for a series of classified discussions on the Asia-Pacific region to include the international strategic environment, U.S. operational capabilities and shortfalls, foreign capabilities and intentions and the maritime strategic outlook in contested areas. These sessions will include discussions of classified operations and human intelligence activities. These sessions will also include a proprietary industry briefing on new or evolving energy technologies. For these reasons, these meetings will be closed to the public.

DATES: The meeting will be held on May 23, 2012, from 8:30 a.m. to 4 p.m.

ADDRESSES: The meeting will be held in the Pentagon N89 Conference Room at the Pentagon.

FOR FURTHER INFORMATION CONTACT: CAPT Henry J. Hendrix, SECNAV Advisory Panel, Office of the Deputy Under Secretary of the Navy (Plans, Policy, Oversight & Integration), 1000 Navy Pentagon, Washington, DC 20350-1000, 703-695-3032.

SUPPLEMENTARY INFORMATION: Pursuant to the provisions of the Federal Advisory Committee Act (5 U.S.C. App. 2), these matters constitute classified information that is specifically authorized by Executive Order to be kept secret in the interest of national defense and are, in fact, properly classified pursuant to such Executive Order. The discussion of such information cannot be adequately segregated from other topics, which precludes opening these meetings to the public. Accordingly, the Secretary of the Navy has determined in writing that the public interest requires that all sessions of this meeting be closed to the public because they will be concerned with matters listed in section 552b(c)(1) of title 5, United States Code.

Dated: April 18, 2012.
J.M. Beal,
Lieutenant Commander, Judge Advocate General's Corps, U.S. Navy, Federal Register Liaison Officer.

[FR Doc. 2012-9930 Filed 4-24-12; 8:45 am]

BILLING CODE 3810-FF-P